DEPARTMENT OF LABOR

Employment and Training Administration

[TA-W-65,856]

V & E Components, Inc., High Point, NC; Notice of Termination of Investigation

Pursuant to Section 221 of the Trade Act of 1974, as amended, an investigation was initiated on April 28, 2009 in response to a petition filed by a company official on behalf of workers of V & E Components, Inc., High Point, North Carolina.

The petitioner has requested that the petition be withdrawn. Consequently, the investigation has been terminated.

Signed at Washington, DC, this 13th day of May 2009.
Linda G. Poole,
Certifying Officer, Division of Trade Adjustment Assistance.

[FR Doc. E9-13911 Filed 6-12-09; 8:45 am]

BILLING CODE 4510-FN-P